DEPARTMENT OF HOMELAND SECURITY

Coast Guard

33 CFR Parts 1, 26, 62, 66, 67, 95, 97, 100, 107, 114, 115, 116, 117, 118, 133, 151, 155, 159, 164, 165, and 174

46 CFR Parts 2, 3, 4, 7, 11, 15, 24, 26, 58, 62, 68, 90, 108, 110, 118, 125, 126, 131, 132, 133, 147, 169, 177, 181, 182, and 188

[Docket No. USCG-2024-1103]

Navigation and Navigable Waters, and Shipping; Technical, Organizational, and Conforming Amendments

AGENCY: Coast Guard, DHS.

ACTION: Final rule.

SUMMARY: This final rule makes non-substantive, technical, organizational, and conforming amendments to existing Coast Guard regulations. This represents a continuation of our practice of periodically issuing rules to keep our regulations up-to-date and accurate. This final rule is deregulatory in nature due to the discontinuation of the Information Collection Request (ICR), Office of Management and Budget (OMB) Control Number 1625-0068. In all other respects, this final rule will have no substantive impact on the regulated public.

DATES: This final rule is effective November 24, 2025.

ADDRESSES: To view documents mentioned in this preamble as being available in the docket, go to www.regulations.gov, type USCG-2024-1103 in the search box and click “Search.” Next, in the Document Type column, select “Supporting & Related Material.”

FOR FURTHER INFORMATION CONTACT: For information about this document, call or email Mr. Dale Murad, Office of Regulations and Administrative Law, U.S. Coast Guard; telephone 571-607-4608, email Dale.Murad@uscg.mil.

SUPPLEMENTARY INFORMATION:

Table of Contents for Preamble

I. Abbreviations

II. Regulatory History

III. Basis and Purpose

IV. Discussion of the Rule

A. Authority Citation Updates

B. Formatting Amendments To Accompany Technical Amendments in This Document

C. Technical Amendments to Title 33 of the CFR

D. Technical Amendments to Title 46 of the CFR

V. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards and Incorporation by Reference

M. Environment

N. Congressional Review Act

I. Abbreviations

CFR Code of Federal Regulations

COTP Captain of the Port

DDH Document Drafting Handbook

DHS Department of Homeland Security

EPA Environmental Protection Agency

FR Federal Register

GPO Government Publishing Office

IBR Incorporation by Reference

ICR Information Collection Request

MHz megahertz

NDAA 2023 James M. Inhofe National Defense Authorization Act for Fiscal Year 2023, Public Law 117-263

NPRM Notice of Proposed Rulemaking

OMB Office of Management and Budget

§ Section

U.S.C. United States Code

II. Regulatory History

We did not publish a notice of proposed rulemaking (NPRM) for this rule. Under 5 U.S.C. 553(b)(A), the Coast Guard finds that this final rule is exempt from notice and public comment rulemaking requirements because the changes made in this rulemaking involve rules of agency organization, procedure, or practice. In addition, the Coast Guard finds that notice and comment procedures are unnecessary under 5 U.S.C. 553(b)(B), as this final rule consists of only technical and editorial corrections, and these changes will have no substantive effect on the public.¹ Finally, under 5 U.S.C. 553(d)(3), the Coast Guard finds, for the same reasons, that good cause also exists for making this final rule effective upon publication in the Federal Register.

¹ As explained below, notice and comment procedures are also unnecessary regarding the removal of 33 CFR part 133 because its removal flows directly from legislative changes made by the James M. Inhofe National Defense Authorization Act for Fiscal Year 2023, Public Law 117-263 (NDAA 2023), and leaves no room for the exercise of discretion by the Coast Guard.

III. Basis and Purpose

The purpose of this final rule, which becomes effective on November 24, 2025, is to make technical and editorial corrections throughout 33 CFR chapter I and 46 CFR chapter I. These changes are necessary to update authority citations, correct errors, update contact information, and make other non-substantive amendments that improve the clarity of the CFR. This rule does not create or change any substantive requirements.

The legal basis for this final rule rests on the authorities of 5 U.S.C. 552(a) and 553; 14 U.S.C. 102 and 503; Department of Homeland Security (DHS) Delegation No. 00170.1, Revision No. 01.4; and on authorities listed at the end of this rule for each CFR part this rule amends.

IV. Discussion of the Rule

The Coast Guard periodically issues technical, organizational, and conforming amendments to existing regulations in titles 33 and 46 of the CFR. These technical amendments are intended to provide the public with more accurate and current regulatory information than exist in the rules they amend without changing the effect of any Coast Guard regulations on the public.

A. Authority Citation Updates

This final rule implements updates to DHS Delegation No. 00170.1, Revision No. 01.4 in 33 CFR parts 1, 26, 62, 66, 67, 95, 97, 107, 114, 115, 117, 118, 133, 151, 155, 159, 164, and 165, and 46 CFR parts 3, 4, 7, 11, 24, 26, 58, 62, 68, 90, 110, 125, 126, 131, 177, 182, and 188.

B. Formatting Amendments To Accompany Technical Amendments in This Document

While making the technical amendments within this document, we identified cases where the text of the existing CFR does not meet current formatting standards and made stylistic changes to bring the affected portions of the CFR into compliance. Our formatting amendments reflect direction in three sources prescribing stylistic standards for Federal documents—the Document Drafting Handbook (DDH),² the Government Publishing Office (GPO) Style Manual, and Executive Order 12866, 58 FR 51735 (Oct. 4, 1993), which directs Federal agencies to provide information to the public in plain, understandable language. The DDH provides guidance on how to follow the formatting and editorial requirements established in 44 U.S.C. chapter 15 (the Federal Register Act) and 1 CFR chapter I.³ On page 2-55, the DDH refers readers to the GPO Style Manual as a guide for punctuation, capitalization, spelling, compounding, and other style matters not addressed in the DDH.

² The DDH is published by the Office of the Federal Register. We consulted the August 2018 edition (Revision 2.2, dated June 2025).

³ See the Introduction to the DDH, at www.archives.gov/files/federal-register/write/handbook/ddh.pdf.

Two stylistic changes occur repeatedly in this document. In cases where this final rule updates a mailing address that includes an abbreviation of a geographic quadrant, we have removed any periods from the abbreviation. This reflects Rule 9.17 in the GPO Style Manual,⁴ which states “in addresses, no period is used with the abbreviations NW, SW, NE, SE (indicating sectional divisions of cities) following name or number.” This final rule further replaces all instances of “shall” in regulatory text otherwise amended by this rule with “must.” We do so to follow a recommendation in the Federal plain language guidelines, posted on plainlanguage.gov, that the word “shall” should usually be replaced with the clearer and more commonly used “must.”

⁴ The GPO Style Manual is available at www.govinfo.gov/content/pkg/GPO-STYLEMANUAL-2016/pdf/GPO-STYLEMANUAL-2016.pdf (Last accessed 3-12-25).

C. Technical Amendments to 33 CFR

In § 1.07-100(a)(1), this final rule removes references to paragraph numbers in 46 U.S.C. 2101 because the paragraphs in that section of the U.S. Code have been renumbered, and the referenced paragraph numbers for the definitions of fishing vessel, fish processing vessel, and fish tender vessel are incorrect. We are not replacing the paragraph number references, as these definitions are listed in alphabetical order in the referenced statute, and cross-referencing to a paragraph number is unnecessary. In addition, Congress updates 46 U.S.C. 2101 fairly frequently, and if we were to replace the paragraph numbers, they would likely be rendered incorrect the next time Congress updates the section.

In § 26.03(b), this final rule replaces the term “Mega-Hertz” with “megahertz (MHz),” to use GPO's preferred formatting and to help readers understand the use of the abbreviation elsewhere in the section.

In § 62.1, this final rule removes paragraph (b)(2), which references 33 CFR subpart 66.10 (which is deleted elsewhere in this rule), and redesignates § 62.1(b)(1) as § 62.1(b), as there are no longer any subordinate paragraphs under paragraph (b).

In § 62.21(c)(2), this final rule corrects internet addresses and a spelling error.

In § 62.47(a)(2), this final rule removes a reference to fog detector technology that is no longer in use and provides information on the technology that has replaced it.

In § 62.63(b)(2), this final rule replaces a reference to “loran,” a radio navigation system no longer in use, with “electronic charting systems.”

In § 66.01-5, this final rule corrects an internet address in the introductory text.

This final rule removes 33 CFR part 66 subpart 66.10. On June 19, 1998 (63 FR 33570), the Coast Guard, exercising authorities in 14 U.S.C. 83 (now 14 U.S.C. 542) and 33 U.S.C. 1333, announced a merger of the Uniform State Waterway Marking System with the United States Aids to Navigation System, to be phased in over a five-year period. As provided in a sunset provision (33 CFR 66.10-1(b)) that is removed by this rule, the regulations in the subpart ceased to be in effect after the phase-in period ended in 2003, when aids to navigation which had been governed by subpart 66.10, would be governed by part 62 of subchapter C of title 33.

In §§ 67.05-20 and 67.30-5(d), this final rule makes stylistic and grammatical corrections, changing “Provided, That” in both paragraphs to “provided that.”

In § 67.40-1(a), this final rule replaces an outdated notification method (telegram) with newer methods (electronic mail and telephone) and, in paragraph (b), removes a reference to telegrams. Western Union stopped providing telegram service in 2006.⁵

⁵ See Mike Musgrove, “The Telegram, 1844-2006,” Washington Post (Feb 3, 2006).

In § 67.40-1(b), this rule replaces the word “telegraph” with the word “notification,” consistent with the change made in § 67.40-1(a).

In § 67.50-25, this final rule updates the name of the district in the section heading and in paragraph (e) to reflect that on July 3, 2025, the Coast Guard announced the renaming of its districts in an all Coast Guard Message (ALCOAST), ALCOAST 305/25 “Force Design 2028—Renaming Coast Guard Districts.” In paragraph (e), this final rule also updates a street address, and an internal office routing symbol.

In § 95.010, this final rule removes from the definition of recreational vessel a reference to a paragraph in 46 U.S.C. 2101 because the paragraphs in that section have been renumbered, as noted in our discussion of § 1.07-100(a)(1). We are also adding the phrase “of that term” to clarify that the word “definition” refers to the definition of recreational vessel contained in 46 U.S.C. 2101.

In § 97.110(a), this final rule updates the name of the point of contact and substitutes the current contact's email address and phone number for the public to submit requests to view material incorporated by reference (IBR) in part 97.

In § 100.30, this final rule identifies the Captain of the Port (COTP) as the approval authority, except for those applications that are managed by the State. This change is consistent with 33 CFR 100.35(a), which already acknowledges that COTPs can “approv[e] plans for the holding of a regatta or marine parade within his or her . . . zone.”

In § 107.210(b), this final rule removes the reference to the paragraph number in 46 U.S.C. 2101 defining public vessel because the paragraphs in that section have been renumbered for the reasons provided in our discussion of § 1.07-100(a)(1). We are also removing the reference to a definition of foreign vessel in 46 U.S.C. 2101 as that definition has been removed from the section entirely. We are replacing it with a reference to the definition of foreign vessel in 46 U.S.C. 110, added by Public Law 109-304, § 4, Oct. 6, 2006, 120 Stat. 1487. Finally, we are adding a reference to the definition of vessel of the United States at 46 U.S.C. 116. Congress also added that definition in Public Law 109-304.

In § 114.50, this final rule adds an email address as an additional means for the public to submit appeals for the denial of bridge permits.

In § 115.50(a), this final rule adds language to require applicants for authorization to construct a bridge across navigable waters of the United States to include their email addresses in their applications. It also adds language advising applicants to refer to Commandant Publication (COMDTPUB) 16591, Bridge Permit Application Guide, for guidance on completing the application.

In § 115.60(a), this final rule removes the last three lines of that paragraph, which relate to procedures for compliance (in connection with the Coast Guard's issuance of a bridge permit) with water quality certification requirements under section 401 of the Clean Water Act, 33 U.S.C. 1341. The language removed from § 115.60(a) fulfilled requirements previously contained in an Environmental Protection Agency (EPA) regulation, 40 CFR 121.6(b), that Federal agencies provide the certifying authority notification of (a) the date it received a copy of the applicant's certification request to the certifying authority, (b) the “applicable reasonable period of time to act on the certification request,” and (c) “the date upon which waiver will occur if the certifying authority fails or refuses to act on the certification request.” See the version of 40 CFR 121.6 in effect on September 11, 2020. Also see the preamble of “Clean Water Act Section 401 Water Quality Certification Improvement Rule,” 88 FR 66558, 66582 (Sept. 27, 2023), where EPA stated “the Agency [EPA] is removing the regulatory text located at § 121.6(b) in the 2020 Rule, which required the Federal agency to communicate the date of receipt of the request for [water quality] certification, the reasonable period of time [to act on the request for certification], and the date waiver [of certification] will occur.” The 2023 EPA rule which replaced the 2020 version of § 121.6 renders the removed text of the EPA rule obsolete, as the 2023 rule sets the date from which the reasonable period of time begins for certification to occur, and provides that the reasonable period of time to act on a certification request is six months, unless the Federal agency and the certifying authority agree in writing to some other period that does not exceed one year.

In § 116.55(a), this final rule changes the word “recommendation” to “decision” to describe a matter subject to appeal, to conform with the language used elsewhere in the section. We note here that a matter would not need to be appealed if it were merely a recommendation.

In § 116.55(b), this final rule adds email as a means of submitting an appeal under paragraph (a) of this section.

In §§ 117.255(a)(3)(i) and (a)(5)(i), this final rule updates a contact phone number.

In § 117.593(b)(2), this final rule adds language to clarify how the operation lights at the Chelsea Street Bridge work, to better reflect what a mariner sees at this location.

In § 117.997(c)(2)(i), this final rule adds the term “vessels” after the term “recreational” to clarify that the phrase “that do not qualify under section” applies only to commercial vessels. We also correct an incorrect reference to paragraph (d)(2)(ii) so that § 117.997(c)(2)(i) refers to paragraph (c)(2)(ii), as paragraph (d) pertains to a different bridge, and paragraph (d)(2)(ii) does not exist.

In § 117.997(c)(2)(ii), this final rule corrects a typographical error by adding a space between “at” and “7.”

In §§ 117.1087(a), 117.1087(a)(3), and 117.1087(a)(4), this final rule amends those sections to reflect changes in bridge names made by the bridge owner. The names of these bridges have already been corrected in Coast Pilot 6 (page 419),⁶ and are being used in general messaging between the Coast Guard and the bridge owner, including messaging regarding deviations.

⁶ nauticalcharts.noaa.gov/publications/coast-pilot/files/cp6/CPB6_WEB.pdf (Last accessed 3-12-25).

In § 118.3(b), this final rule adds an email address for the public to submit requests to view material incorporated by reference (IBR) in part 118.

This final rule removes 33 CFR part 133, which is now obsolete. Prior to December 23, 2022, when the NDAA 2023, became law, 33 U.S.C. 2712(d) and (e) authorized and required the President to obligate appropriations into the Oil Spill Liability Trust Fund for removal actions undertaken by the States, in a procedure (commonly known as “State access”) that was implemented in 33 CFR part 133. Section 11314 of the NDAA 2023 removed those provisions in old 33 U.S.C. 2712(d) and (e) and substituted the language which is now in current section 2712(d), for those provisions. That language authorizes States to use cost-reimbursable agreements and withdraws the Coast Guard's authority to administer the State access program.

With the removal of 33 CFR part 133, the Coast Guard will discontinue the Information Collection Request (ICR), Office of Management and Budget (OMB) Control Number 1625-0068. Accordingly, this technical amendment is considered deregulatory under Executive Order 14192 (Unleashing Prosperity Through Deregulation) due to the elimination of a paperwork requirement. In addition, there is the triennial savings to the Federal Government (for example, Coast Guard, DHS and OMB) of not conducting a periodic renewal of the ICR, OMB Control Number 1625-0068. We consider this a non-quantifiable benefit.

In § 151.51(a)(1), this final rule removes incorrect citations to paragraphs referring to the definitions of recreational vessels and uninspected vessels in 46 U.S.C. 2101. This information is incorrect as the paragraphs in 46 U.S.C. 2101 have been renumbered, as explained in our discussion of § 1.07-100(a)(1).

In §§ 155.4025, 155.4030(b), and 155.4040(c), this final rule replaces the term “assessment of structural stability” with “assessment of structure and stability.” The term “assessment of structural stability” implies one distinct action but, as the Coast Guard stated in a response to comments on its 2008 final rule, Salvage and Marine Firefighting Requirements; Vessel Response Plans for Oil, “these are two distinct types of assessments that will be going on at the same time.” ⁷ We stated in the same paragraph of the 2008 rule that we agreed, in part, with the points made in the response to comments and added a sentence to the proposed definition (at 67 FR 31868, 31874 (May 10, 2002)), but did not clarify that the term referred to two distinct actions. The change we are making in this final rule will clarify the two distinct actions required—the assessment of vessel stability and the assessment of structural integrity.

⁷ 73 FR 80618, 80631 (Dec. 31, 2008).

In §§ 155.5015(a)(3), 155.5020, and 159.305, this final rule removes references to paragraph numbers in 46 U.S.C. 2101 as the paragraphs have been renumbered, as explained in our discussion of § 1.07-100(a)(1). In §§ 155.5015(a)(3) and 159.305, we are not replacing the paragraph numbers referring to the definitions of navigable waters of the United States and cruise vessel, respectively. In § 155.5020, however, we are replacing the paragraph number referring to the definition of navigable waters of the United States, now cited in § 155.5020, with “(23)” because that regulation refers to the waters identified in 46 U.S.C. 2101(23) only as a subset of an alternative definition of that term, and not as the definition of navigable waters of the United States, which is used in § 155.5020.

In § 164.01(b)(2), this final rule corrects an erroneous reference to the regulation containing the definition for assistance towing. 46 CFR 10.103, which the rule referenced prior to this change, is an IBR section; 46 CFR 10.107, which the rule references after the change, is the proper location of the definition.

In §§ 164.39(b), 165.123(b), 165.169(a), and 165.500(a)(4), this final rule removes references to paragraph numbers for the definitions of tanker, tank vessel, and passenger vessel in 46 U.S.C. 2101 for the reasons provided in our discussion of § 1.07-100(a)(1).

In § 165.911(b)(2), this final rule updates contact information for the public to request permission to transit security zones in the Captain of the Port Eastern Great Lakes Zone.

In § 165.923(a)(2)(ii)(C), this final rule removes a reference to a paragraph number for the definition of commercial service in 46 U.S.C. 2101 for the reasons provided in our discussion of § 1.07-100(a)(1) pertaining to the renumbering of paragraphs.

In § 165.1141(d)(2), this final rule updates contact information for the public to request permission to transit through the San Clemente Safety Zone.

In § 165.1157(a), this final rule adds degree, minute, and second symbols to the latitude and longitude coordinates for the Santa Barbara Breakwater Light.

In § 165.1711(c)(6), this final rule removes a reference to an incorrect paragraph number in 46 U.S.C. 2101 for the reasons provided in our discussion of § 1.07-100(a)(1). In addition, the adjective “commercial” has been removed before the phrase “fishing vessels,” as the definition of fishing vessel in § 2101 is “a vessel that commercially engages in the catching, taking, or harvesting of fish or an activity that can reasonably be expected to result in the catching, taking, or harvesting of fish.” (Emphasis added.)

This final rule removes §§ 174.17(c) and 174.19(c), which are obsolete paragraphs governing the issuance of certificates of number to vessels between April 27, 2012, and January 1, 2017. The appendix referenced in these sections has already been removed.

D. Technical Amendments to 46 CFR

In § 2.01-7, footnote 7, this final rule removes references to paragraphs in 46 U.S.C. 2101 defining passenger and passenger(s)-for-hire, as the paragraphs have been renumbered. For more detail, see our explanation of the change to 33 CFR 1.07-100(a)(1).

In § 3.01-1, this final rule removes a reference to a paragraph number in 46 U.S.C. 2101 defining oceanographic research vessel because the paragraphs in that section of the U.S. Code have been renumbered. For more detail, see our explanation of the change to 33 CFR 1.07-100(a)(1).

In §§ 4.03-50 and 7.1, this final rule removes a reference to a paragraph number in 46 U.S.C. 2101 for the definitions of recreational vessel, seagoing barges and seagoing motor vessels because the paragraphs in that section of the U.S. Code have been renumbered. For more detail, see our explanation of the change to 33 CFR 1.07-100(a)(1).

In § 11.301, this final rule removes the reference to paragraphs 11(a) and 11(c) in 46 U.S.C. 2101 for the definitions of fishing vessel and fish-tender vessel because the paragraphs in section 2101 have been renumbered, and the referenced paragraph numbers are no longer correct. We are not replacing the paragraph numbers, as definitions in section 2101 are listed in alphabetical order, and cross-referencing to a paragraph number is unnecessary for these definitions. We are retaining a reference to the subordinate paragraph associated with the definition of uninspected passenger vessels, however, because that subordinate paragraph designation remains unchanged and subordinate paragraphs (A) and (B) contain separate definitions.

In §§ 11.491(a) and 11.551, this final rule removes a reference to a U.S. Code paragraph in 46 U.S.C. 2101 for the definition of offshore supply vessel, as the paragraph has been renumbered. For more detail, see our explanation of the change to 33 CFR 1.07-100(a)(1).

In § 15.105, this final rule removes the reference to paragraphs 12 and 14 in 46 U.S.C. 2101 because the paragraphs in section 2101 have been renumbered and the referenced paragraph numbers are no longer correct. We are not replacing the paragraph numbers, as definitions in section 2101 are listed in alphabetical order, and cross-referencing to a paragraph number is unnecessary for the definitions of fishing vessel and fish-tender vessel. We are retaining a reference to the subordinate paragraph associated with the definition of uninspected passenger vessels, however, because that subordinate paragraph designation remains unchanged and subordinate paragraphs (A) and (B) contain separate definitions.

In § 15.403(e), this final rule removes the reference to paragraphs for the definitions of fishing vessels and fish-tender vessels in 46 U.S.C. 2101 because the paragraphs in section 2101 have been renumbered, and the referenced paragraph number is no longer correct. We are not replacing the paragraph numbers, as definitions in section 2101 are listed in alphabetical order, and cross-referencing to a paragraph number is unnecessary. We are retaining a reference to the subordinate paragraph associated with the definition of uninspected passenger vessels, however, because that subordinate paragraph designation remains unchanged and subordinate paragraphs (A) and (B) contain separate definitions.

In §§ 15.720(b) this final rule removes references to paragraphs in the definitions of offshore supply vessel and mobile offshore drilling unit in 46 U.S.C. 2101, as the paragraphs in section 2101 have been renumbered. For more detail, see our explanation of the change to 33 CFR 1.07-100(a)(1).

In § 15.1101(a), this final rule removes the reference to paragraphs 11(a) and 11(c) in 46 U.S.C. 2101 because the paragraphs in section 2101 have been renumbered and the referenced paragraph numbers for the definitions of fishing vessel and fish-tender vessel are no longer correct. For the reasons provided in our discussion of 33 CFR 1.07-100(a)(1), we are not replacing the paragraph numbers. We are retaining a reference to the subordinate paragraphs associated with the definition of uninspected passenger vessels, however, because the subordinate paragraphs contain separate definitions.

In § 24.10-1, this final rule changes a reference in the definition of motorboat from table 24.05-1(a) in § 24.05-1 to table 2.01-7(a) in 46 CFR 2.01-7(a). In 2014, the Coast Guard issued a rule which removed table 24.05-1(a) from the CFR on the grounds that the table unnecessarily duplicated table 2.01-7(a).⁸ However, due to a drafting error, the rule did not update this cross-reference, and we correct that here.

⁸ 79 FR 58270, 58272 (Sept. 29, 2014)

In §§ 26.15-1(a) and 58.25-5(a), this final rule removes references to the U.S. Code paragraphs in 46 U.S.C. 2101 defining uninspected vessel, tanker, and tank vessel, as the paragraphs in section 2101 have been renumbered. For more detail, see our explanation of the change to 33 CFR 1.07-100(a)(1).

In § 62.50-30(k)(3), this final rule corrects a cross-reference. Section 62.50-30(k)(3) incorrectly references paragraph (f) of § 111.70-3 because the reference to that paragraph was not changed when the Coast Guard updated § 111.70-3 in 1996 to eliminate obsolete requirements. This amendment corrects that oversight by changing the reference to paragraph (b) of § 111.70-3, which now contains the material that had been in paragraph (f) of the 1995 version of § 111.70-3.⁹

⁹ In 1995, 46 CFR 111.70-3 contained paragraphs (a) to (k). Paragraph (f) was titled “Low voltage release.” On February 2, 1996 (at 61 FR 4137), the Coast Guard proposed to revise 46 CFR subpart 111.70, stating “the revision will eliminate obsolete requirements.” Section 111.70-3 was revised in the interim final rule on June 4, 1996 (see 61 FR 28281 at www.govinfo.gov/content/pkg/FR-1996-06-04/pdf/96-13416.pdf). The revision contains paragraphs (a) to (d). Paragraph (b), titled “Low-voltage release,” now contains the material which had been in paragraph (f) of the 1995 version of § 111.70-3.

In § 68.55, this final rule removes a reference to the U.S. Code paragraph in 46 U.S.C. 2101 defining oil, as the paragraphs in section 2101 have been renumbered. For more detail, see our explanation of the change to 33 CFR 1.07-100(a)(1).

In § 90.10-23, this final rule changes a reference in the definition of motorboat from a table which has been removed (table 90.05-1(a)) to a table with the same information in it (table 2.01-7(a)). This should have been done in a rulemaking published on September 29, 2014, which stated at 79 FR 58270, 58272:

“This rule amends the following sections to remove repetitive tables: 46 CFR 24.05-1(a) . . ., 90.05-1(a) . . . . The repetitive tables are duplications of information contained in table 2.01-7(A) [sic], and therefore we replace the tables with a reference back to the complete, original table published as table 2.01-7(A) [sic] in 46 CFR 2.01-7(a).”

In § 108.151(b), this final rule corrects a grammatical error by adding the word “of.”

In § 110.01-3(c), this final rule removes a reference to the U.S. Code paragraph (14a) in 46 U.S.C. 2101 defining conversion, as the paragraphs in section 2101 have been renumbered. For more detail, see our explanation of the change to 33 CFR 1.07-100(a)(1). In addition, the word “Major” has been added before “conversions” because the current definition given in section 2101, and the definition given in the 1997 version of section 2101 (which contained paragraph 14a), was for “major conversions.”

In § 118.400(f),¹⁰ this final rule corrects a reference to “paragraph (f) of this section” to refer instead to paragraph (g). We redesignated § 118.400(f) as § 118.400(g) in 86 FR 73171 (December 27, 2021), but failed to make a conforming change to the reference at that time.

¹⁰ Subpart D of Part 118 is titled “Fixed Fire Extinguishing and Detecting Systems.” Section 118.400 is titled “Where required.”

In § 125.180(b)(4), this final rule corrects citations to sections in 46 CFR subchapter L, which incorporate by reference the American Bureau for Shipping's Rules for Building and Classing Mobile Offshore Drilling Units. It does not change the meaning of the regulations.

In § 126.180, this final rule removes a reference to the higher level paragraph in 46 U.S.C. 2101, as the number of the paragraph in that U.S. Code section containing the definition of passenger has changed. Because § 126.180 refers the reader to a specific subordinate paragraph of the definition of “passenger,” we are revising the reference, “46 U.S.C. 2101(21)(B)” rather than deleting everything after “2101.” Our revision refers the reader to subordinate paragraph (B) of the paragraph containing the definition of passenger in 46 U.S.C. 2101. That paragraph applies specifically to a passenger on an offshore supply vessel.

In § 131.540(a), this final rule corrects the misspelling of the word “each.”

In § 132.130(a), this final rule corrects the misspelling of the word “fire.”

In § 133.130(b)(4)(i), this final rule corrects an editorial error by deleting the redundant words “and list” from the phrase “Within the limits of trim and list and list specified . . . .”

In § 147.65(b)(1), this final rule removes the words “of pressure” from the sentence “If cylinder weight or liquid level, adjusted for temperature, shows a 5 percent loss of pressure, the cylinder must be refilled.” A loss of cylinder weight or liquid level, adjusted for temperature, is distinct from a loss of pressure, so the earlier language was illogical.

In § 169.101, this final rule deletes a reference to a U.S. Code paragraph defining sailing school vessel because the paragraphs in 46 U.S.C. 2101 have been renumbered, and the paragraph cited is no longer the correct one. For more detail, see our explanation of the change to 33 CFR 1.07-100(a)(1).

In § 177.410(b), this final rule removes the words “meet as” from the phrase “. . . and meet as accepted by the Commandant as meeting . . .” as both redundant and ungrammatical.

In § 181.115(b), this final rule, applicable to 46 CFR subchapters T and K, removes implementation deadlines that have passed and are no longer relevant. This final rule also corrects an error in § 181.115 resulting from a previous rulemaking, published at 81 FR 48220 (July 22, 2016). That 2016 rulemaking split an earlier version of § 181.400 into two sections to separate the identification of spaces required to have fixed fire extinguishing systems from the identification of spaces required to have fire detection systems. The portion of § 181.400 dealing with fire extinguishing systems remained in § 181.400, and the portion relating to fire detection systems was moved to § 181.405. Section 181.115, which had referred only to § 181.400, was not changed in the 2016 rulemaking. This final rule corrects § 118.115 by adding a reference to § 181.405 to reflect that the identification of spaces required to have fire detection systems is now set out in that section.

This final rule splits 46 CFR 181.300(d) into two separate paragraphs and redesignates what had been paragraph (e) as paragraph (f). The first sentence of paragraph (d), “A fire pump may be driven by a propulsion engine,” remains in paragraph (d). The second sentence, “A fire pump must be permanently connected to the fire main and may be connected to the bilge system to meet the requirements of § 182.520 of this chapter,” is now paragraph (e). Having both requirements in one paragraph has caused confusion because people have incorrectly inferred that the second sentence is only applicable if the first sentence is true. Regardless of whether the fire pump is driven by a propulsion engine, however, the pump must be permanently attached to the vessel. A separate, portable pump does not meet the requirements set out in 46 CFR subpart D.

This final rule adds paragraphs (c), (d), and (e) to § 181.400. The language added here pertains to fire suppression system requirements and is being moved from the section addressing fire detection systems in 46 CFR 181.405. A 2016 rule ¹¹ for harmonizing fire safety standards split requirements (previously consolidated in § 181.400) for both fire suppression and detection systems into §§ 181.400 (Fire suppression systems) and 181.405 (Fire detection systems). The rulemaking inadvertently put some of the fire suppression requirements into the fire detection section. Rearranging these paragraphs will not change the requirements, but it will make the organization of the subpart more logical and consistent with the original intent as proposed. The original intent of the 2016 change is explained at 79 FR 2271, in the NPRM titled “Harmonization of Standards for Fire Protection, Detection, and Extinguishing Equipment,” and published on January 13, 2014. There, we stated:

¹¹ 81 FR 48299, 48300 (July 22, 2016)

The existing regulations at § 181.400 contain the requirements for both fire extinguishing systems and fire detection systems on small passenger vessels regulated under 46 CFR subchapter T. We propose to separate, for clarity, these requirements by removing the regulations for fire detection systems in § 181.400(c) through (g) and moving these regulations to proposed new § 181.405(a) through (e). Further, we propose to amend the title of § 181.400 to “Spaces required to have fixed fire extinguishing systems,” in order to clarify that this section would contain the requirements for fire extinguishing systems only.

In § 181.405, this final rule removes fire suppression system requirements that are currently listed in the section designated for fire detection systems. As explained in the preceding paragraph regarding § 181.400, the 2016 rule harmonizing fire safety standards split § 181.400, which contained requirements for both fire suppression and detection systems, into § 181.400 (Fire suppression systems) and § 181.405 (Fire detection systems). The rulemaking inadvertently left some fire suppression requirements in the fire detection section. Rearranging these paragraphs will not change the requirements, but it will make the organization of the subpart more logical.

In § 182.115(c) and (d), this final rule removes an implementation deadline that has passed and is no longer relevant.

In § 188.10-77, this final rule changes a reference, in the definition of vessel, from a table (table 24.05-1(a)) which has been removed to another table (table 2.01-7(a)) with the same information in it. This change should have been done in a rulemaking published on September 29, 2014, where we stated the following, at 79 FR 58270, 58272:

This final rule amends 46 CFR 24.05-1(a) to remove repetitive tables. The repetitive tables are duplications of information contained in table 2.01-7(A)[sic], and therefore we replace the tables with a reference back to the complete, original table published as table 2.01-7(A) [sic] in 46 CFR 2.01-7(a).

V. Regulatory Analyses

We developed this final rule after considering numerous statutes and Executive orders related to rulemaking. Below we summarize our analyses based on these statutes or Executive orders.

A. Regulatory Planning and Review

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility.

Executive Order 14192 (Unleashing Prosperity Through Deregulation) directs agencies to significantly reduce the private expenditures required to comply with Federal regulations and provides that “any new incremental costs associated with new regulations shall, to the extent permitted by law, be offset by the elimination of existing costs associated with at least 10 prior regulations.”

The Office of Management and Budget (OMB) has not designated this final rule a “significant regulatory action” under section 3(f) of Executive Order 12866. Accordingly, this rule has not been reviewed by OMB.

This final rule is considered an Executive Order 14192 deregulatory action due to the elimination of a paperwork requirement. This final rule involves non-substantive, technical amendments and internal agency practices and procedures; it will not impose any additional costs. The technical amendments in this final rule fit into categories that involve (1) correcting inadvertent typographical errors in the CFR; (2) modifying existing language in the CFR by addition or subtraction to improve the readability or clarity of regulations; (3) removing irrelevant information, such as expired regulatory provisions or cancelled reference material, and replacing outdated regulatory information with current information, where applicable; and (4) revising office contact information and mailing addresses. This final rule will not impose any additional costs to the public or the Federal Government, because none of the technical and editorial changes in this final rule will impose new regulatory requirements. A summary of these amendments by category and by CFR title and section are presented in table 1.

Table 1—Summary of Regulatory Changes by CFR Title and Section
CFR title | CFR section or part | Description of changes | Economic impact
33 | 67.05-20, 67.30-5(d), 117.997(c)(2)(ii), 155.4025, Table 155.4030(b), Table 155 4040(c), 164.01(b)(2) | Improves the accuracy of regulatory information by correcting erroneous information | Corrects various typographical errors.
46 | 108.151(b), 131.540(a), 132.130(a), 181.300(d), 181.405, | Improves the accuracy of regulatory information by correcting erroneous information | Corrects various typographical errors.
33 | 26.03(b), 62.47(a)(2), 62.63(b)(2), 67.40-1(a) 95.010, 100.30, 107.210(b), 116.55(a), 117.593(b)(2), 117.997(c)(2)(i), 117.1087(a)(3), 117.1087(a)(4), 151.51(a)(1), 165.1711(c)(6) | Improves the accuracy of regulatory information by correcting erroneous information | Improves readability by removing or replacing irrelevant and outdated information.
33 | 1.07-100(a)(1), 62.1(b)(2), 66.10, 67.40-1(b), 115.50(a), 115.60(a), 155.5015(a)(3), 155.5020, 159.305, 164.39(b), 165.123(b), 165.169(a), 165.500(a)(4), 165.923(a)(2)(ii)(C), 165.1141(d)(2), 165.1157(a), 174.17(c), 174.19(c) | Adds clarifying language and removes redundant, confusing, or incorrect language | Improves readability by removing or replacing irrelevant and outdated information.
46 | 2.01-7 footnote 7, 3.01-1, 4.03-50, 7.1, 11.301, 11.491(a), 11.551, 15.105, 15.403(e), 15.720(b), 15.1101(a), 24.10-1, 26.15-1(a), 58.25-5(a), 62.50-30(k)(3), 68.55, 90.10-23, 110.01-3(c), 118.400(f), 125.180(b)(4), 126.180, 133.130(b)(4)(i), 147.65(b)(1), 169.101, 177.410(b), 181.115(b), 181.400, 182.115(c), 182.115(d), 188.10-77 | Adds clarifying language and removes redundant, confusing, or incorrect language | Improves readability by removing or replacing irrelevant and outdated information.
33 | 62.21(c)(2), 66.01-5, 67.50-25(e), 97.110(a), 114.50, 116.55(b), 117.255(a)(3)(i), 117.255(a)(5)(i), 117.1087(a), 118.3(b), 165.911(b)(2) | Updates office contact information or mailing addresses | Improves the accuracy of regulatory information through administrative changes.

Also, as discussed in the “Discussion of the Rule” section above, this final rule removes 33 CFR part 133, which is now obsolete. Prior to December 23, 2022, the date in which the NDAA 2023, became law, 33 U.S.C. 2712(d) and (e) authorized and required the President to obligate appropriations into the Oil Spill Liability Trust Fund for removal actions undertaken by the States, in a procedure (commonly known as “State access”) that was implemented in 33 CFR part 133. Section 11314 of the NDAA 2023 removed those provisions in 33 U.S.C. 2712(d) and (e) and substituted the language, which is now in section 2712(d), for those provisions. That language authorizes States to use cost-reimbursable agreements and withdraws the Coast Guard's authority to administer the State access program.

The benefits of the non-substantive technical amendments are increased accuracy of regulatory information by correcting erroneous information, and improved readability and clarity of regulations by removing redundant or confusing language and by removing expired or cancelled provisions that are no longer relevant. In addition, correcting technical items such as office contact details and location coordinates will improve the ability to reference and contact the correct entities.

B. Small Entities

The Regulatory Flexibility Act of 1980, 5 U.S.C. 601-612, requires federal agencies to consider the potential impact on small entities when they issue a rule after being required to first publish a general NPRM. Under 5 U.S.C. 604(a), a regulatory flexibility analysis is not required for this final rule because, under provisions in 553(b)(B), we were not required to publish a general NPRM. Therefore, we did not conduct a regulatory flexibility analysis for this rule.

C. Assistance for Small Entities

Under section 213(a) of the Small Business Regulatory Enforcement Fairness Act of 1996, Public Law 104-121, we offer to assist small entities in understanding this final rule so that they can better evaluate its effects on them and participate in the rulemaking. The Coast Guard will not retaliate against small entities that question or complain about this final rule or any policy or action of the Coast Guard.

D. Collection of Information

This final rule calls for no new collection of information under the Paperwork Reduction Act of 1995, 44 U.S.C. 3501-3520. However, with the removal of 33 CFR part 133 the Coast Guard will discontinue the ICR OMB Control Number 1625-0068.

E. Federalism

A rule has implications for federalism under Executive Order 13132 (Federalism) if it has a substantial direct effect on States, on the relationship between the National Government and the States, or on the distribution of power and responsibilities among the various levels of government. We have analyzed this rule under Executive Order 13132 and have determined that it is consistent with the fundamental federalism principles and preemption requirements described in Executive Order 13132.

F. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100,000,000 (adjusted for inflation) or more in any one year. Although this final rule will not result in such expenditure, we do discuss the effects of this final rule elsewhere in this preamble.

G. Taking of Private Property

This final rule will not cause a taking of private property or otherwise have taking implications under Executive Order 12630 (Governmental Actions and Interference with Constitutionally Protected Property Rights), which addresses governmental actions and interference with property rights.

H. Civil Justice Reform

This final rule meets applicable standards in sections 3(a) and 3(b)(2) of Executive Order 12988 (Civil Justice Reform) to minimize litigation, eliminate ambiguity, and reduce burden.

I. Protection of Children

We have analyzed this final rule under Executive Order 13045 (Protection of Children from Environmental Health Risks and Safety Risks). This final rule is not an economically significant rule and will not create an environmental risk to health or risk to safety that might disproportionately affect children.

J. Indian Tribal Governments

This final rule does not have tribal implications under Executive Order 13175 (Consultation and Coordination with Indian Tribal Governments), because it will not have a substantial direct effect on one or more Indian Tribes, on the relationship between the Federal Government and Indian Tribes, or on the distribution of power and responsibilities between the Federal Government and Indian Tribes.

K. Energy Effects

We have analyzed this final rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (for example, specifications of materials, performance, design, or operation; test methods; sampling procedures; and related management systems practices) that are developed or adopted by voluntary consensus standards bodies.

This final rule does not use technical standards or incorporation by reference. Therefore, we did not consider the use of voluntary consensus standards.

M. Environment

We have analyzed this final rule under Department of Homeland Security Management Directive 023-01, Rev. 1, associated implementing instructions, and Environmental Planning COMDTINST 5090.1 (series), which guide the Coast Guard in complying with the National Environmental Policy Act of 1969 (42 U.S.C. 4321-4370f), and have made a determination that this action is one of a category of actions that do not individually or cumulatively have a significant effect on the human environment. A Record of Environmental Consideration supporting this determination is available in the docket. For instructions on locating the docket, see the ADDRESSES section of this preamble.

This final rule is categorically excluded under paragraph A3 and L54 of Appendix A, Table 1 of DHS Instruction Manual 023-01-001-01, Rev 1. Paragraph A3 pertains to: Promulgation of rules, issuance of rulings or interpretations, and the development and publication of policies, orders, directives, notices, procedures, manuals, advisory circulars, and other guidance documents of the following nature: (a) Those of a strictly administrative or procedural nature; (b) Those that implement, without substantive change, statutory or regulatory requirements; (c) Those that implement, without substantive change, procedures, manuals, and other guidance documents; (d) Those that interpret or amend an existing regulation without changing its environmental effect; (e) Technical guidance on safety and security matters; or (f) Guidance for the preparation of security plans. Paragraph L54 pertains to “Regulations which are editorial or procedural, such as those updating addresses or establishing application procedures.” This final rule makes non-substantive technical, organizational, and conforming amendments to existing Coast Guard regulations and also, as explained above, implements without substantive changes, statutory requirements made by the NDAA 2023. This final rule is a continuation of our practice of periodically issuing rules to keep our regulations up-to-date and accurate.

N. Congressional Review Act

Before a rule can take effect, 5 U.S.C. 801, the Congressional Review Act, requires agencies to submit the rule and a report indicating whether it is a major rule to Congress and the Comptroller General. Under 5 U.S.C. 804(3)(C), rules of agency organization, procedure, or practice that do not substantially affect the rights or obligations of non-agency parties are not considered to be a rule for the purposes of the Congressional Review Act. This technical amendment is a rule of agency organization, procedure, or practice that will not substantially affect the rights or obligations of non-agency parties, thus it is not required to be submitted for review under the CRA.

List of Subjects

33 CFR Part 1

Administrative practice and procedure, Authority delegations (Government agencies), Freedom of information, Penalties.

33 CFR Part 26

Communications equipment, Marine safety, Radio, Telephone, Vessels.

33 CFR Part 62

Navigation (water).

33 CFR Part 66

Intergovernmental relations, Navigation (water), Reporting and recordkeeping requirements.

33 CFR Part 67

Continental shelf, Navigation (water), Reporting and recordkeeping requirements.

33 CFR Part 95

Alcohol abuse, Drug abuse, Marine safety, Penalties.

33 CFR Part 97

Cargo vessels, Incorporation by reference, Marine safety, Navigation (water), Reporting and recordkeeping requirements.

33 CFR Part 100

Harbors, Marine safety, Navigation (water), Reporting and recordkeeping requirements, Security measures, Waterways.

33 CFR Part 107

Harbors, Marine safety, Maritime security, Navigation (water), Reporting and recordkeeping requirements, Security measures, Vessels, Waterways.

33 CFR Part 114

Bridges.

33 CFR Part 115

Administrative practice and procedure, Bridges, Reporting and recordkeeping requirements.

33 CFR Part 116

Bridges.

33 CFR Part 117

Bridges.

33 CFR Part 118

Bridges.

33 CFR Part 133

Intergovernmental relations, Oil pollution, Reporting and recordkeeping requirements.

33 CFR Part 151

Administrative practice and procedure, Oil pollution, Penalties, Reporting and recordkeeping requirements, Water pollution control.

33 CFR Part 155

Alaska, Hazardous substances, Incorporation by reference, Oil pollution, Reporting and recordkeeping requirements.

33 CFR Part 159

Alaska, Reporting and recordkeeping requirements, Sewage disposal, Vessels.

33 CFR Part 164

Incorporation by reference, Marine safety, Navigation (water), Reporting and recordkeeping requirements, Waterways.

33 CFR Part 165

Harbors, Marine safety, Navigation (water), Reporting and recordkeeping requirements, Security measures, Waterways.

33 CFR Part 174

Intergovernmental relations, Marine safety, Reporting and recordkeeping requirements.

46 CFR Part 2

Marine safety, Reporting and recordkeeping requirements, Vessels.

46 CFR Part 3

Coastal zone, Oceanographic research vessels, Reporting and recordkeeping requirements, Research.

46 CFR Part 4

Administrative practice and procedure, Drug testing, Investigations, Marine safety, Nuclear vessels, Radiation protection, Reporting and recordkeeping requirements, Safety, Transportation.

46 CFR Part 7

Law enforcement, Vessels.

46 CFR Part 11

Penalties, Reporting and recordkeeping requirements, Schools, Seamen.

46 CFR Part 15

Incorporation by reference, Reporting and recordkeeping requirements, Seamen, Vessels.

46 CFR Part 24

Marine safety.

46 CFR Part 26

Marine safety, Penalties, Reporting and recordkeeping requirements.

46 CFR Part 58

Incorporation by reference, Reporting and recordkeeping requirements, Vessels.

46 CFR Part 62

Incorporation by reference, Reporting and recordkeeping requirements, Vessels.

46 CFR Part 68

Oil pollution, Vessels.

46 CFR Part 90

Cargo vessels, Marine safety.

46 CFR Part 108

Fire prevention, Marine safety, Occupational safety and health, Oil and gas exploration, Vessels.

46 CFR Part 110

Incorporation by reference, Reporting and recordkeeping requirements, Vessels.

46 CFR Part 118

Fire prevention, Marine safety, Passenger vessels, Reporting and recordkeeping requirements.

46 CFR Part 125

Administrative practice and procedure, Cargo vessels, Hazardous materials transportation, Incorporation by reference, Marine safety, Seamen.

46 CFR Part 126

Cargo vessels, Marine safety, Reporting and recordkeeping requirements.

46 CFR Part 131

Cargo vessels, Fire prevention, Marine safety, Navigation (water), Occupational safety and health, Reporting and recordkeeping requirements.

46 CFR Part 132

Cargo vessels, Fire prevention, Marine safety, Reporting and recordkeeping requirements.

46 CFR Part 133

Cargo vessels, Marine safety, Reporting and recordkeeping requirements.

46 CFR Part 147

Hazardous materials transportation, Incorporation by reference, Labeling, Marine resources, Marine safety, Packaging and containers, Reporting and recordkeeping requirements.

46 CFR Part 169

Fire prevention, Incorporation by reference, Marine safety, Reporting and recordkeeping requirements, Schools, Vessels.

46 CFR Part 177

Marine safety, Passenger vessels, Reporting and recordkeeping requirements.

46 CFR Part 181

Fire prevention, Marine safety, Passenger vessels, Reporting and recordkeeping requirements.

46 CFR Part 182

Marine safety, Passenger vessels.

46 CFR Part 188

Marine safety, Oceanographic research vessels.

For the reasons discussed in the preamble, the Coast Guard amends 33 CFR parts 1, 26, 62, 66, 67, 95, 97, 100, 107, 114, 115, 116, 117, 118, 133, 151, 155, 159, 164, 165, and 174 and 46 CFR parts 2, 3, 4, 7, 11, 15, 24, 26, 58, 62, 68, 90, 108, 110, 118, 125, 126, 131, 132, 133, 147, 169, 177, 181, 182, and 188 as follows:

Title 33—Navigation and Navigable Waters

PART 1—GENERAL PROVISIONS

1. The authority citation for part 1 is revised to read as follows:

Authority: 14 U.S.C. 502, 503, 505; 33 U.S.C. 401, 491, 525, 1321, 2716, and 2716a; 42 U.S.C. 9615; 49 U.S.C. 322; DHS Delegation No. 00170.1, Revision No. 01.4; section 1.01-70 also issued under the authority of E.O. 12580, 3 CFR, 1987 Comp., p. 193; and sections 1.01-80 and 1.01-85 also issued under the authority of E.O. 12777, 3 CFR, 1991 Comp., p. 351.

§ 1.07-100 [Amended]

2. Amend § 1.07-100 in paragraph (a)(1), by removing the text “(11a), (11b), or (11c), respectively”.

PART 26—VESSEL BRIDGE-TO-BRIDGE RADIOTELEPHONE REGULATIONS

3. The authority citation for part 26 is revised to read as follows:

Authority: 14 U.S.C. 102, 33 U.S.C. 1201-1208; Pub. L. 107-295, 116 Stat. 2064; DHS Delegation No. 00170.1, Revision No. 01.4. Rule 1, International Regulations for the Prevention of Collisions at Sea.

§ 26.03 [Amended]

4. Amend § 26.03 in paragraph (b), by removing the text “Mega-Hertz” and adding in its place the text “megahertz (MHz)”.

PART 62—UNITED STATES AIDS TO NAVIGATION SYSTEM

5. The authority citation for part 62 is revised to read as follows:

Authority: 14 U.S.C. 544; 43 U.S.C. 1333; 46 U.S.C. 70031, 70041; DHS Delegation 00170.1, Revision No. 01.4.

§ 62.1 [Amended]

6. Amend § 62.1 by removing paragraph (b)(2), and redesignate paragraph (b)(1) as paragraph (b).

7. Amend § 62.21 by revising paragraph (c)(2) to read as follows:

§ 62.21 General.

* * * * *

(c) * * *

(2) The United States Coast Pilot, published by the National Ocean Service and available from NOAA Certified Printer Partners listed at www.nauticalcharts.noaa.gov/enconline/enconline.html. Free on-line versions and weekly updates supplement the information shown on nautical charts and are available directly from NOAA at distribution.charts.noaa.gov/weekly_updates/. Subjects such as local navigation regulations, channel and anchorage peculiarities, dangers, climatological data, routes, and port facilities are covered.

* * * * *

8. Amend § 62.47 by revising paragraph (a)(2) to read as follows:

§ 62.47 Sound signals.

(a) * * *

(2) Where no live watch is maintained, sound signals are normally operated continuously. However, most are equipped with Mariner Radio Activated Sound Systems (MRASS) that are activated by the mariner by keying their VHF radio microphone five (5) times on the designated charted frequency. Channels 81a (157.075 MHz) and channel 83a (157.175 MHz) are the two most common frequencies, but others may be designated and charted. (Mariners may consult the appropriate U.S. Coast Guard Light List volume or local notice to mariners for specific activation frequencies and instructions.) Activated signals will normally operate for 45 minutes after the signal is triggered.

* * * * *

§ 62.63 [Amended]

9. Amend § 62.63 in paragraph (b)(2), by removing the word “loran” and adding, in its place, the words “electronic charting systems”.

PART 66—PRIVATE AIDS TO NAVIGATION

10. The authority citation for part 66 is revised to read as follows:

Authority: 14 U.S.C. 542, 543, 544; 43 U.S.C. 1333; Pub. L. 107-296, 116 Stat. 2135; DHS Delegation No. 00170.1, Revision No. 01.4.

§ 66.01-5 [Amended]

11. Amend § 66.01-5 in the introductory text, by removing the text “http://www.uscg.mil/forms/form_public_use.asp” and adding in its place the text “www.dcms.uscg.mil/forms/”.

Subpart 66.10 [Removed]

12. Remove subpart 66.10, consisting of §§ 66.10-1 through 66.10-35.

PART 67—AIDS TO NAVIGATION ON ARTIFICIAL ISLANDS AND FIXED STRUCTURES

13. The authority citation for part 67 is revised to read as follows:

Authority: 14 U.S.C. 503, 544; 43 U.S.C. 1333; DHS Delegation No. 00170.1, Revision No. 01.4.

§ 67.05-20 [Amended]

14. Amend § 67.05-20 by removing the text “: Provided, That” and adding, in its place, the text “; provided that”.

§ 67.30-5 [Amended]

15. Amend § 67.30-5 in paragraph (d), by removing the text “: Provided, That” and adding, in its place, the text “; provided that”.

§ 67.40-1 [Amended]

16. Amend § 67.40-1 as follows:

a. In paragraph (a), remove the word “telegram” and add in its place the text “electronic mail, telephone,”; and

b. In paragraph (b), remove the word “telegram” and add in its place the word “notification”.

17. Amend § 67.50-25 by revising paragraph (e) to read as follows:

§ 67.50-25 USCG Heartland District.

* * * * *

(e) Applications. All applications for private aids to navigation and all correspondence dealing with private aids to navigation and obstruction lighting must be addressed to Commander (dpw), USCG Heartland District, Hale Boggs Federal Building, 500 Poydras Street, Suite 1324, New Orleans, Louisiana 70130-3396.

* * * * *

PART 95—OPERATING A VESSEL WHILE UNDER THE INFLUENCE OF ALCOHOL OR A DANGEROUS DRUG

18. The authority citation for part 95 is revised to read as follows:

Authority: 33 U.S.C. 1701, 46 U.S.C. 2302; DHS Delegation No. 00170.1, Revision No. 01.4.

19. Amend § 95.010 by revising the definition of “Recreational vessel” to read as follows:

§ 95.010 Definition of terms as used in this part.

* * * * *

Recreational vessel means a vessel meeting the definition of that term in 46 U.S.C. 2101 that is then being used only for pleasure.

* * * * *

PART 97—RULES FOR THE SAFE OPERATION OF VESSELS, STOWAGE AND SECURING OF CARGOES

20. The authority citation for part 97 is revised to read as follows:

Authority: 46 U.S.C. 2103, 3306; E.O. 12234; DHS Delegation No. 00170.1, Revision No. 01.4.

21. Amend § 97.110 by revising paragraph (a) to read as follows:

§ 97.110 Incorporation by reference.

(a) Certain material is incorporated by reference into this subpart with the approval of the Director of the Federal Register under 5 U.S.C. 552(a) and 1 CFR part 51. All approved material is available for inspection by contacting Mr. Douglas Lincoln, of the Coast Guard's Vessel and Facility Operating Standards Division, Commandant (CG-OES-2); telephone 571-613-1069, email Douglas.R.Lincoln3@uscg.mil, and is available from the sources listed below. It is also available for inspection at the National Archives and Records Administration (NARA). For information on the availability of this material at NARA, email: fr.inspection@nara.gov, or go to: www.archives.gov/federal-register/cfr/ibr-locations.

* * * * *

PART 100—SAFETY OF LIFE ON NAVIGABLE WATERS

22. The authority citation for part 100 continues to read as follows:

Authority: 46 U.S.C. 70041; 33 CFR 1.05-1.

§ 100.30 [Amended]

23. Amend § 100.30 by removing the text “District Commander” and adding, in its place, the text “Captain of the Port”.

PART 107—NATIONAL VESSEL AND FACILITY CONTROL MEASURES AND LIMITED ACCESS AREAS

24. The authority citation for part 107 is revised to read as follows:

Authority: 14 U.S.C. 701; 46 U.S.C. 70051, 70052, 70053; Presidential Proclamation 6867, 61 FR 8843, 3 CFR, 1996 Comp., p. 8; Presidential Proclamation 7757, 69 FR 9515 (March 1, 2004); Secretary of Homeland Security Order 2004-001; DHS Delegation No. 00170.1, Revision No. 01.4, and 33 CFR 1.05-1.

25. Amend § 107.210 by revising paragraph (b) to read as follows:

§ 107.210 Applicability.

* * * * *

* * * * *

(b) This subpart does not apply to the following: foreign vessels, as defined by 46 U.S.C. 110; public vessels, as defined by 46 U.S.C. 2101, when they are being operated for non-commercial purposes; or to vessels of the United States, as defined by 46 U.S.C. 116, when entering Cuban territorial waters under force majeure.

PART 114—GENERAL

26. The authority citation for part 114 is revised to read as follows:

Authority: 33 U.S.C. 401, 406, 491, 494, 495, 499, 502, 511, 513, 514, 516, 517, 519, 521, 522, 523, 525, 528, 530, 533, and 535(c), (e), and (h); 14 U.S.C. 503; 49 U.S.C. 1655(g); Pub. L. 107-296, 116 Stat. 2135; 33 CFR 1.05-1 and 1.01-60, DHS Delegation No. 00170.1, Revision No. 01.4.

§ 114.50 [Amended]

27. Amend § 114.50 by removing the text “DC 20593-7418” and adding, in its place, the text “DC 20593-7418 or HQS-SMB-CG-BRG@uscg.mil”.

PART 115—BRIDGE LOCATIONS AND CLEARANCES; ADMINISTRATIVE PROCEDURES

28. The authority citation for part 115 is revised to read as follows:

Authority: Mar. 3, 1899, Ch. 425, sec. 9, 30 Stat. 1151 (33 U.S.C. 401); Mar. 23, 1906, Ch. 1130, sec. 1, 34 Stat. 84 (33 U.S.C. 491); sec. 5, 28 Stat. 362, as amended (33 U.S.C. 499); sec. 11, 54 Stat. 501, as amended (33 U.S.C. 521); Aug 2, 1946, Ch. 753, title V, sec. 502, 60 Stat. 847, as amended (33 U.S.C. 525); 86 Stat. 732 (33 U.S.C. 535); 14 U.S.C. 503.

29. Amend § 115.50 by revising paragraph (a) to read as follows:

§ 115.50 Application for bridge permits.

(a) Application. An application for authorization to construct a bridge across navigable waters of the United States must include the name, address, telephone number, and email address of the applicant; the waterway and location of the bridge; a citation to the applicable act of Congress; when appropriate, a citation to the State legislation authorizing the bridge; a map of the location and plans of the bridge showing the features which affect navigation; papers to establish the identity of the applicant. Additional guidance on completing the application can be found in the Bridge Permit Application Guide, COMDTPUB16591.series.

* * * * *

115.60 [Amended]

30. Amend § 115.60, paragraph (a), by removing the last three sentences.

PART 116—ALTERATION OF UNREASONABLY OBSTRUCTIVE BRIDGES

31. The authority citation for part 116 continues to read as follows:

Authority: 33 U.S.C. 401, 521.

§ 116.55 [Amended]

32. Amend § 116.55 as follows:

a. In paragraph (a), remove the text “recommendation”, and add, in its place, the text “decision”; and

b. In paragraph (b), remove the text “DC 20593-7318”, and add, in its place, the text “DC 20593-7318, or USCGDCO@uscg.mil”.

PART 117—DRAWBRIDGE OPERATION REGULATIONS

33. The authority citation for part 117 is revised read as follows:

Authority: 33 U.S.C. 499; 33 CFR 1.05-1; and DHS Delegation No. 00170.1, Revision No. 01.4.

§ 117.255 [Amended]

34. Amend § 117.255 in paragraphs (a)(3)(i) and (a)(5)(i), by removing the text “(703) 836-2396” and adding, in its place, the text “(571) 513-3745”.

§ 117.593 [Amended]

35. Amend § 117.593 in paragraph (b)(2), by removing the text “a range light display with one solid green light and one” and adding, in its place, the text “a solid green light over a”.

36. Amend § 117.997 by revising paragraphs (c)(2)(i) and (ii) to read as follows:

§ 117.997 Atlantic Intracoastal Waterway, South Branch of the Elizabeth River to the Albermarle and Chesapeake Canal.

* * * * *

(c) * * *

(2) * * *

(i) Need not open for the passage of recreational vessels, or commercial vessels that do not qualify under paragraph (c)(2)(ii) of this section.

(ii) Need not open for commercial cargo vessels, including tugs, and tugs with tows, unless 2 hours advance notice has been given to the Gilmerton Bridge at 757-485-5567.

* * * * *

§ 117.1087 [Amended]

37. Amend § 117.1087 as follows:

a. Remove the text “Canadian National” wherever it appears and add in its place the text “Fox Valley & Lake Superior Railroad”;

b. Remove the text “Main Street” wherever it appears and add in its place the text “Ray Nitschke”; and

c. Remove the text “Walnut Street” wherever it appears and add in its place the text “Bart Starr Memorial”.

PART 118—BRIDGE LIGHTING AND OTHER SIGNALS

38. The authority citation for part 118 is revised to read as follows:

Authority: 33 U.S.C. 494; 14 U.S.C. 503, 544; DHS Security Delegation No. 00170.1, Revision No. 01.4.

§ 118.3 [Amended]

39. Amend § 118.3 in paragraph (b), by removing the text “DC 20593-7418” and adding, in its place, the text “DC 20593-7418, or HQS-SMB-CG-BRG@uscg.mil”.

PART 133 [Removed]

40. Remove part 133, consisting of §§ 133.1 through 133.25.

PART 151—VESSELS CARRYING OIL, NOXIOUS LIQUID SUBSTANCES, GARBAGE, MUNICIPAL OR COMMERCIAL WASTE, AND BALLAST WATER

41. The authority citation for part 151 is revised to read as follows:

Authority: 33 U.S.C. 1902, 1903, 1908; 46 U.S.C. 6101; 46 U.S.C. 70034; Pub. L. 104-227, 110 Stat. 3034; sec. 623, Pub. L. 108-293, 118 Stat. 1063; E.O. 12777, 56 FR 54757, 3 CFR, 1991 Comp., p. 351; DHS Delegation No. 00170.1, Revision No. 01.4.

42. Amend § 151.51 by revising paragraph (a)(1) to read as follows:

§ 151.51 Applicability.

(a) * * *

(1) Is of United States registry or nationality, or one operated under the authority of the United States, including recreational vessels defined in 46 U.S.C. 2101 and uninspected vessels defined in 46 U.S.C. 2101, wherever located; or

* * * * *

PART 155—OIL OR HAZARDOUS MATERIAL POLLUTION PREVENTION REGULATIONS FOR VESSELS

43. The authority citation for part 155 is revised to read as follows:

Authority: 3 U.S.C. 301 through 303; 33 U.S.C. 1321(j), 1903(b), 2735; 46 U.S.C. 70011; 70034; E.O. 12777, 56 FR 54757, 3 CFR, 1991 Comp., p. 351; DHS Delegation No. 00170.1, Revision No. 01.4. Section 155.1020 also issued under section 316 of Pub. L. 114-120. Section 155.480 also issued under section 4110(b) of Pub. L. 101-380.

§ 155.4025 [Amended]

44. Amend § 155.4025 by removing the text “structural stability” from the definition “Assessment of structural stability” and adding in its place the text “structure and stability”.

45. Amend § 155.4030(b) by revising the heading of table 155.4030(b), and paragraphs (b)(1)(i)(B) and (D), to read as follows:

§ 155.4030 Required salvage and marine firefighting services to list in response plans.

* * * * *

(b) * * *

Table 1 to § 155.4030(b)—Salvage and Marine Firefighting Services and Response Timeframes
Service | Location of incident response activity timeframe
* * * * *
(1) | * * * |
(i) | * * * |
(B) Begin assessment of structure and stability | 3 | 3
* * * * *
(D) Assessment of structure and stability | 12 | 18
* * * * *

* * * * *

46. Amend § 155.4040(c) by revising table 155.4040(c) rows (1)(ii) and (iv), to read as follows:

§ 155.4040 Response times for each salvage and marine firefighting service.

(a) * * *

(c) * * *

Table 1 to § 155.4040(c)—Response Timeframe End Points
Service | Response timeframe ends when
* * * * *
(ii) Begin assessment of structure and stability | A structural assessment of the vessel has been initiated.
* * * * *
(iv) Assessment of structure and stability | Initial analysis is completed. This is a continual process, but at the time specified an analysis needs to be completed.
* * * * *

* * * * *

§ 155.5015 [Amended]

47. Amend § 155.5015 in paragraph (a)(3), by removing the text “(17a)”.

§ 155.5020 [Amended]

48. Amend § 155.5020 in the definition for “Navigable waters of the United States”, by removing the text “(17a)” and adding, in its place, the text “(23)”.

PART 159—MARINE SANITATION DEVICES

49. The authority citation for part 159 is revised to read as follows:

Authority: 33 U.S.C. 1322(b)(1); 49 CFR 1.45(b). Subpart E also issued under authority of sec. 1(a)(4), Pub. L. 106-554, 114 Stat. 2763; DHS Delegation No. 00170.1, Revision No. 01.4.

§ 159.305 [Amended]

50. Amend § 159.305, in the definition for Cruise Vessel, by removing the text “(22)”.

PART 164—NAVIGATION SAFETY REGULATIONS

51. The authority citation for part 164 is revised to read as follows:

Authority: 46 U.S.C. 2103, 3703, 70034; E.O. 12234, 45 FR 58801, 3 CFR, 1980 Comp., p. 277. Sec. 164.13 also issued under 46 U.S.C. 8502. Sec. 164.46 also issued under 46 U.S.C. 70114 and Sec. 102 of Pub. L. 107-295. Sec. 164.61 also issued under 46 U.S.C. 6101. DHS Delegation No. 00170.1, Revision No. 01.4.

§ 164.01 [Amended]

52. Amend § 164.01 in paragraph (b)(2), by removing the text “46 CFR 10.103” and adding in its place the text “46 CFR 10.107”.

53. Amend § 164.39 in paragraph (b), by revising the definition of Tanker to read as follows:

§ 164.39 Steering gear: Foreign tankers.

* * * * *

(b) * * *

Tanker means a self-propelled vessel defined as a tanker or a tank vessel by 46 U.S.C. 2101.

* * * * *

PART 165—REGULATED NAVIGATION AREAS AND LIMITED ACCESS AREAS

54. The authority citation for part 165 is revised to read as follows:

Authority: 46 U.S.C. 70034, 70051, 70124; 33 CFR 1.05-1, 6.04-1, 6.04-6, and 160.5; DHS Delegation No. 00170.1, Revision No. 01.4.

§ 165.123 [Amended]

55. Amend § 165.123 in paragraph (b), in the definition of Cruise ship, by removing the text “(22)”.

§ 165.169 [Amended]

56. Amend § 165.169 in paragraphs (a)(14)(i) and (15)(i), by removing the text “(22)”.

§ 165.500 [Amended]

57. Amend § 165.500, paragraph (a)(4), by removing the text “(22)”.

58. Amend § 165.911 by revising paragraph (b)(2) to read as follows:

§ 165.911 Security Zones; Captain of the Port Eastern Great Lakes Zone.

* * * * *

(b) * * *

(2) Persons or vessels desiring to transit the area of Ginna Nuclear Power Plant security zones must contact the Captain of Port Eastern Great Lakes at telephone number (716) 843-9570, or on VHF/FM channel 16 to seek permission to transit the area. Persons desiring to transit the area of the Nine Mile Point and Fitzpatrick Nuclear Power Plants, or the Moses-Saunders Power Dam or Long Sault Spillway Dam security zones must contact the Commanding Officer, Marine Safety Unit Thousand Islands at telephone number (315) 774-8724 or on VHF/FM channel 16 to seek permission to transit the area. If permission is granted, all persons and vessels must comply with the instructions of the Captain of the Port or his or her designated representative.

* * * * *

§ 165.923 [Amended]

59. Amend § 165.923, paragraph (a)(2)(ii)(C), by removing the text “(5)” after the text “46 U.S.C. 2101”.

60. Amend § 165.1141 by revising paragraph (d)(2) to read as follows:

§ 165.1141 Safety Zone; San Clemente 3 NM Safety Zone, San Clemente Island, CA.

* * * * *

(d) * * *

(2) Mariners requesting permission to transit through any section of the zone may request authorization to do so from the San Clemente Island Range Control, call sign “STARBURST” by either calling 619-313-2293 or establishing a VHF bridge to bridge radio connection on Channel 82A. Immediately upon completing transit, the vessel operator must promptly notify the STARBURST Range Control of safe passage through the safety zone. Failure to expeditiously notify STARBURST Range Control of passage through the safety zone will result in a determination by the Navy that the vessel is still in the safety zone, thereby restricting the use of the area for naval operations. If the Navy determines that facilitating safe transit through the zone negatively impacts range operations, the Navy will cease this practice and enforce the safety zones in these two areas without exception.

* * * * *

§ 165.1157 [Amended]

61. Amend § 165.1157 in paragraph (a), by removing the text “34-24-17.364 N, 119-41-16.260W” and adding, in its place, the text “34°24′17.364″ N, 119°41′16.260″ W”.

§ 165.1711 [Amended]

62. Amend § 165.1711 in paragraph (c)(6), by removing the text “commercial” and “(11a)”.

PART 174—STATE NUMBERING AND CASUALTY REPORTING SYSTEMS

63. The authority citation for part 174 continues to read as follows:

Authority: 46 U.S.C. 6101 and 12302; DHS Delegation No. 00170.1, Revision No. 01.4.

§ 174.17 [Amended]

64. Amend § 174.17 by removing paragraph (c).

§ 174.19 [Amended]

65. Amend § 174.19 by removing paragraph (c).

TITLE 46—SHIPPING

PART 2—VESSEL INSPECTIONS

66. The authority citation for part 2 continues to read as follows:

Authority: 33 U.S.C. 1903; 43 U.S.C. 1333; 46 U.S.C. 2103, 2110, 3306, 3316, 3703, 70034; DHS Delegation No. 00170.1, Revision No. 01.4; E.O. 12234, 45 FR 58801, 3 CFR, 1980 Comp., p. 277, sec. 1-105.

§ 2.01-7 [Amended]

67. Amend footnote 7 to table 2.01-7(a) by removing the text “(21)(21a)”.

PART 3—DESIGNATION OF OCEANOGRAPHIC RESEARCH VESSELS

68. The authority citation for part 3 is revised to read as follows:

Authority: 46 U.S.C. 2113, 3306; DHS Delegation No. 00170.1, Revision No. 01.4.

§ 3.01-1 [Amended]

69. Amend § 3.01-1 by removing the text “(18)”.

PART 4—MARINE CASUALTIES AND INVESTIGATIONS

70. The authority citation for part 4 is revised to read as follows:

Authority: 14 U.S.C. 102; 43 U.S.C. 1333; 46 U.S.C. 2103, 2303A, 2306, 6101, 6301, 6305, 70034; 50 U.S.C. 198; DHS Delegation 00170.1, Revision No. 01.4. Subpart 4.40 issued under 49 U.S.C. 1131(a)(1)(E).

§ 4.03-50 [Amended]

71. Amend § 4.03-50 by removing the text “(25)”.

PART 7—BOUNDARY LINES

72. The authority citation for part 7 is revised to read as follows:

Authority: 14 U.S.C. 503; 33 U.S.C. 151; DHS Delegation 00170.1, Revision No. 01.4.

§ 7.1 [Amended]

73. Amend § 7.1 by removing the text “(32)” and “(33)”.

PART 11—REQUIREMENTS FOR OFFICER ENDORSEMENTS

74. The authority citation for part 11 is revised to read as follows:

Authority: 14 U.S.C. 503; 31 U.S.C. 9701; 46 U.S.C. 2101, 2103, and 2110; 46 U.S.C. chapter 71; 46 U.S.C. 7502, 7505, 7701, 8903, 8904, 8906, and 70105; E.O. 10173; DHS Delegation No. 00170.1, Revision No. 01.4. Section 11.107 is also issued under the authority of 44 U.S.C. 3507.

75. Amend § 11.301 as follows:

a. In paragraph (h)(1), remove the text “(11)(a)”;

b. In paragraph (h)(2), remove the text “(11)(c)”; and

c. Revise paragraph (i) to read as follows:

§ 11.301 Requirements for STCW officer endorsements.

* * * * *

(i) Mariners serving on, and owners or operators of uninspected passenger vessels as defined in subparagraph (B) of the definition of uninspected passenger vessel in 46 U.S.C. 2101, do not need to hold an STCW endorsement. The vessels concerned are not subject to further obligation under STCW because of their special operating conditions as small vessels engaged in domestic, near-coastal voyages.

§ 11.491 [Amended]

76. Amend § 11.491 in paragraph (a), by removing the text “(19)”.

§ 11.551 [Amended]

77. Amend § 11.551 by removing the text “(19)”.

PART 15—MANNING REQUIREMENTS

78. The authority citation for part 15 continues to read as follows:

Authority: 46 U.S.C. 2101, 2103, 3306, 3703, 8101, 8102, 8103, 8104, 8105, 8301, 8304, 8502, 8503, 8701, 8702, 8901, 8902, 8903, 8904, 8905(b), 8906 and 9102; sec. 617, Pub. L. 111-281, 124 Stat. 2905; and DHS Delegation No. 00170.1, Revision No. 01.4.

79. Amend § 15.105 as follows:

a. In paragraph (f)(1), remove the text “(12)”;

b. In paragraph (f)(2), remove the text “(14)”; and

c. Revise paragraph (g)(3) to read as follows:

§ 15.105 General.

* * * * *

(g) * * *

(3) Uninspected passenger vessels (UPVs) as defined in subparagraph (B) of the definition of uninspected passenger vessel in 46 U.S.C. 2101.

* * * * *

80. Amend § 15.403 as follows:

a. In paragraph (e)(1)(i), remove the text “(11)(a)”;

b. In paragraph (e)(1)(ii), remove the text “(11)(c)”; and

c. Revise paragraph (e)(2)(iii), to read as follows:

§ 15.403 When credentials for ratings are required.

* * * * *

(e) * * *

(2) * * *

(iii) Uninspected passenger vessels (UPVs) as defined in subparagraph (B) of the definition of uninspected passenger vessel in 46 U.S.C. 2101.

§ 15.720 [Amended]

81. Amend § 15.720 as follows:

a. In paragraph (b)(1), remove the text “(19)”; and

b. In paragraph (b)(2), remove the text “(15a)”.

82. Amend § 15.1101 as follows:

a. In paragraph (a)(1)(i), remove the text “(11)(a)”;

b. In paragraph (a)(1)(ii), remove the text “(11)(c)”; and

c. Revise paragraph (a)(2)(iii) to read as follows:

§ 15.1101 General.

* * * * *

(a) * * *

(2) * * *

(iii) Uninspected passenger vessels as defined in subparagraph (B) of the definition of uninspected passenger vessel in 46 U.S.C. 2101.

* * * * *

PART 24—GENERAL PROVISIONS

83. The authority citation for part 24 is revised to read as follows:

Authority: 46 U.S.C. 2103, 2113, 4302; E.O. 12234, 45 FR 58801, 3 CFR, 1980 Comp., p. 277, sec. 1-105; DHS Delegation No. 00170.1, Revision No. 01.4.

§ 24.10-1 [Amended]

84. Amend § 24.10-1, in the introductory text of the definition for Motorboat, by removing the text “column five of table 24.05-1(a) in § 24.05-1,” and adding, in its place, the text “column 5 of table 2.01-7(a) in § 2.01-7(a) of this chapter,”.

PART 26—OPERATIONS

85. The authority citation for part 26 is revised to read as follows:

Authority: 46 U.S.C. 3306, 4105, 4106, 6101, 8105; Pub. L. 103-206, 107 Stat. 2439; E.O. 12234, 45 FR 58801, 3 CFR, 1980 Comp., p. 277; DHS Delegation No. 00170.1, Revision No. 01.4.

§ 26.15-1 [Amended]

86. Amend § 26.15-1, paragraph (a), by removing the text “(43)”.

PART 58—MAIN AND AUXILIARY MACHINERY AND RELATED SYSTEMS

87. The authority citation for part 58 is revised to read as follows:

Authority: 43 U.S.C. 1333; 46 U.S.C. 3306, 3703; E.O. 12234, 45 FR 58801, 3 CFR, 1980 Comp., p. 277; DHS Delegation No. 00170.1, Revision No. 01.4.

§ 58.25-5 [Amended]

88. Amend § 58.25-5 in paragraph (a), in the definition of “Tank Vessel”, by removing the text “(38)” and “(39)”.

PART 62—VITAL SYSTEM AUTOMATION

89. The authority citation for part 62 is revised to read as follows:

Authority: 46 U.S.C. 3306, 3703, 8105; sec. 617, Pub. L. 111-281, 124 Stat. 2905; E.O. 12234, 45 FR 58801, 3 CFR, 1980 Comp., p. 277; DHS Delegation No. 00170.1, Revision No. 01.4.

§ 62.50-30 [Amended]

90. Amend § 62.50-30 in paragraph (k)(3), by removing the text “(f)”, and adding, in its place, the text “(b)”.

PART 68—DOCUMENTATION OF VESSELS: EXCEPTIONS TO COASTWISE QUALIFICATION

91. The authority citation for part 68 is revised to read as follows:

Authority: 14 U.S.C. 946; 31 U.S.C. 9701; 42 U.S.C. 9118; 46 U.S.C. 2103, 2110; 46 U.S.C. app. 876; DHS Delegation No. 00170.1, Revision No. 01.4.

§ 68.55 [Amended]

92. Amend § 68.55 in the definition of “Oil”, by removing the text “(20)”.

PART 90—GENERAL PROVISIONS

93. The authority citation for part 90 is revised to read as follows:

Authority: 46 U.S.C. 2103, 3306, 3703; E.O. 12234, 45 FR 58801, 3 CFR, 1980 Comp., p. 277, sec. 1-105; DHS Delegation No. 00170.1, Revision No. 01.4.

§ 90.10-23 [Amended]

94. Amend § 90.10-23, in the introductory paragraph, by removing the text “Column 5 of table 90.05-1(a)”, and adding, in its place, the text “column 5 of table 2.01-7(a) in § 2.01-7(a) of this chapter,”.

PART 108—DESIGN AND EQUIPMENT

95. The authority citation for part 108 continues to read as follows:

Authority: 43 U.S.C. 1333; 46 U.S.C. 3102, 3306; DHS Delegation No. 00170.1, Revision No. 01.4.

§ 108.151 [Amended]

96. Amend § 108.151 in paragraph (b), by removing the text “one the” and adding, in its place, the text “one of the”.

PART 110—GENERAL PROVISIONS

97. The authority citation for part 110 is revised to read as follows:

Authority: 43 U.S.C. 1333; 46 U.S.C. 3306, 3307, 3703; E.O. 12234, 45 FR 58801, 3 CFR, 1980 Comp., p. 277; DHS Delegation 00170.1, Revision No. 01.4; § 110.01-2 also issued under 44 U.S.C. 3507. Sections 110.15-1 and 110.25-1 also issued under sec. 617, Pub. L. 111-281, 124 Stat. 2905.

§ 110.01-3 [Amended]

98. Amend § 110.01-3 in paragraph (c), by removing the text “Conversions specified in 46 U.S.C. 2101(14a)” and adding, in its place, the text “Major conversions, as defined in 46 U.S.C. 2101”.

PART 118—FIRE PROTECTION EQUIPMENT

99. The authority citation for part 118 continues to read as follows:

Authority: 46 U.S.C. 2103, 3306; E.O. 12234, 45 FR 58801, 3 CFR, 1980 Comp., p. 277; DHS Delegation 00170.1, Revision No. 01.4.

§ 118.400 [Amended]

100. Amend § 118.400 in paragraph (f) introductory text, by removing the text “paragraph (f)” and adding, in its place, the text “paragraph (g)”.

PART 125—GENERAL

101. The authority citation for part 125 is revised to read as follows:

Authority: 46 U.S.C. 2103, 3306, 3307; 49 U.S.C. App. 1804; sec. 617, Pub. L. 111-281, 124 Stat. 2905; DHS Delegation No. 00170.1, Revision No. 01.4.

§ 125.180 [Amended]

102. Amend § 125.180 in paragraph (b)(4), by removing the text “§§ 133.140 and 133.150” and adding, in its place, the text “§§ 134.140 and 134.150”.

PART 126—INSPECTION AND CERTIFICATION

103. The authority citation for part 126 is revised to read as follows:

Authority: 46 U.S.C. 3205, 3306, 3307, 70034; 46 U.S.C. Chapter 701; sec. 617, Pub. L. 111-281, 124 Stat. 2905; E.O. 11735, 38 FR 21243, 3 CFR 1971-1975 Comp., p. 793; DHS Delegation 00170.1, Revision No. 01.4.

104. Revise § 126.180 to read as follows:

§ 126.180 Carriage of passengers.

No passengers as defined by subparagraph (B) of the definition of passenger in 46 U.S.C. 2101 may be carried aboard an OSV except in an emergency.

PART 131—OPERATIONS

105. The authority citation for part 131 is revised to read as follows:

Authority: 33 U.S.C. 1321(j); 46 U.S.C. 3306, 6101, 10104; E.O. 12234, 3 CFR, 1980 Comp., p. 277; E.O. 12777, 3 CFR, 1991 Comp., p. 351; DHS Delegation No. 00170.1, Revision No. 01.4. Section 131.990 also issued under sec. 617, Pub. L. 111-281, 124 Stat. 2905.

§ 131.540 [Amended]

106. Amend § 131.540 paragraph (a), by removing the text “ach lifesaving” and adding, in its place, the text “each lifesaving”.

PART 132—FIRE-PROTECTION EQUIPMENT

107. The authority citation for part 132 continues to read as follows:

Authority: 46 U.S.C. 3306, 3307; sec. 617, Pub. L. 111-281, 124 Stat. 2905; DHS Delegation 00170.1, Revision No. 01.4.

§ 132.130 [Amended]

108. Amend § 132.130, paragraph (a), by removing the text “ire stations” and adding, in its place, the text “fire stations”.

PART 133—LIFESAVING SYSTEMS

109. The authority citation for part 133 continues to read as follows:

Authority: 46 U.S.C. 3306, 3307; DHS Delegation 00170.1, Revision No. 01.4.

§ 133.130 [Amended]

110. Amend § 133.130, paragraph (b)(4)(i), by removing the text “and list and list” and adding in its place the text “and list”.

PART 147—HAZARDOUS SHIPS' STORES

111. The authority citation for part 147 continues to read as follows:

Authority: 46 U.S.C. 3306; E.O. 12234, 45 FR 58801, 3 CFR, 1980 Comp., p. 277; DHS Delegation 00170.1, Revision No. 01.4.

§ 147.65 [Amended]

112. Amend § 147.65 in paragraph (b)(1), by removing the text “of pressure” from the third sentence.

PART 169—SAILING SCHOOL VESSELS

113. The authority citation for part 169 continues to read as follows:

Authority: 33 U.S.C. 1321(j); 46 U.S.C. 3306, 6101; Pub. L. 103-206, 107 Stat. 2439; E.O. 11735, 38 FR 21243, 3 CFR, 1971-1975 Comp., p. 793; DHS Delegation 00170.1, Revision No. 01.4; § 169.117 also issued under the authority of 44 U.S.C. 3507.

§ 169.101 [Amended]

114. Amend § 169.101 by removing the text “(30)”.

PART 177—CONSTRUCTION AND ARRANGEMENT

115. The authority citation for part 177 is revised to read as follows:

Authority: 46 U.S.C. 2103, 3306; E.O. 12234, 45 FR 58801, 3 CFR, 1980 Comp., p. 277; DHS Delegation 00170.1, Revision No. 01.4.

§ 177.410 [Amended]

116. Amend § 177.410, paragraph (b), by removing the text “meet as” from the first sentence.

PART 181—FIRE PROTECTION EQUIPMENT

117. The authority citation for part 181 continues to read as follows:

Authority: 46 U.S.C. 2103, 3306; E.O. 12234, 45 FR 58801, 3 CFR, 1980 Comp., p. 277; DHS Delegation 00170.1, Revision No. 01.4.

§ 181.115 [Amended]

118. Amend § 181.115 in paragraph (b), as follows:

a. Remove the text “§ 181.400” and add, in its place, the text “§§ 181.400 and 181.405”; and

b. Remove the text “on or before March 11, 1999.”

119. Amend § 181.300 as follows:

a. Revise paragraph (d);

b. Redesignate paragraph (e) as paragraph (f); and

c. Add new paragraph (e).

The revision and addition read as follows:

§ 181.300 Fire Pumps.

* * * * *

(d) A fire pump may be driven by a propulsion engine.

(e) A fire pump must be permanently connected to the fire main and may be connected to the bilge system to meet the requirements of § 182.520 of this chapter.

* * * * *

120. Amend § 181.400 by adding paragraphs (c), (d), and (e) to read as follows:

§ 181.400 Spaces required to have fixed fire extinguishing systems.

* * * * *

(c) All griddles, broilers, and deep fat fryers must be fitted with a grease extraction hood in compliance with § 181.425 of this subchapter.

(d) An enclosed vehicle space must be fitted with an automatic sprinkler system that meets the requirements of part 76 of this chapter.

(e) A partially enclosed vehicle space must be fitted with a manual sprinkler system that meets the requirements of part 76 of this chapter.

121. Amend § 181.405 as follows:

a. Remove and reserve paragraph (b);

b. Revise paragraph (d); and

c. Remove paragraph (e).

The revision reads as follows:

§ 181.405 Spaces required to have fire detection systems.

* * * * *

(d) An enclosed vehicle space must be fitted with a fire detection and alarm system of an approved type that is installed in accordance with part 76 of this chapter.

PART 182—MACHINERY INSTALLATION

122. The authority citation for part 182 is revised to read as follows:

Authority: 46 U.S.C. 3306; E.O. 12234, 45 FR 58801, 3 CFR, 1980 Comp., p. 277; DHS Delegation No. 00170.1, Revision No. 01.4.

§ 182.115 [Amended]

123. Amend § 182.115 as follows:

a. In paragraph (c) remove the text “on or before March 11, 1999”; and

b. In paragraph (d) remove the text “On or before March 11, 1999, an” and add, in its place, the text “An”.

PART 188—GENERAL PROVISIONS

124. The authority citation for part 188 is revised to read as follows:

Authority: 6 U.S.C. 2103, 2113, 3306; E.O. 12234, 45 FR 58801, 3 CFR, 1980 Comp., p. 277, sec. 1-105; DHS Delegation No. 00170.1, Revision No. 01.4.

125. Revise § 188.10-77 to read as follows:

§ 188.10-77 Vessel.

Where the word “vessel” is used in this subchapter, it will be considered to include all inspected and certificated oceanographic research vessels as listed in column 6 of table 2.01-7(a) in § 2.01-7(a) of this chapter.

Michael T. Cunningham,
Chief, Office of Regulations and Administrative Law.

[FR Doc. 2025-20727 Filed 11-21-25; 8:45 am]

BILLING CODE 9110-04-P